DEPARTMENT OF DEFENSE

Office of the Secretary

Renewal of Department of Defense Federal Advisory Committees

AGENCY: Department of Defense.

ACTION: Renewal of Federal Advisory Committee.

SUMMARY: Under the provisions of the Federal Advisory Committee Act of 1972 (5 U.S.C. Appendix, as amended), the Government in the Sunshine Act of 1976 (5 U.S.C. 552b, as amended), and 41 CFR 102-3.65, the Department of Defense gives notice that it is renewing the charter for the Department of Defense Medicare-Eligible Retiree Health Care Board of Actuaries (hereafter referred to as the Board).

The Board is a non-discretionary federal advisory committee established under the provisions of 10 U.S.C. 1114, to advise and assist the Secretary of Defense on actuarial matters associated with the Department of Defense Medicare-Eligible Retiree Health Care Fund. The Board shall report annually to the Secretary of Defense periodically, but no less than once every four years, to the President and the Congress on the status of the Fund to include recommendations for such changes as in the Board's judgment are necessary to protect the public interest and maintain the Fund on a sound actuarial basis.

The Board shall be composed of not more than three members appointed by the Secretary of Defense from among qualified professional actuaries who are members of the Society of Actuaries. The Board Members shall serve for a term of 15 years; except those Board Members appointed to fill a vacancy occurring before the end of the term for which the predecessor was appointed shall serve only until the end of such term. Board Members may serve after the end of the term until a successor has taken office. No Board Member, other than those originally appointed for less than a 15-year term or a Board Member appointed to fill an unexpired term may be reappointed for successive terms.

Board Members appointed by the Secretary of Defense, who are not full-time or permanent part-time federal employees, are appointed as experts and consultants under the authority of 5 U.S.C. 3109, and shall serve as Special Government employees. Pursuant to 10 U.S.C. 1114(a)(3), the members shall serve with compensation to include travel and per diem for official travel. The Chairperson of the Board shall be designated by the Under Secretary of Defense (Personnel and Readiness), on behalf of the Secretary of Defense.

The Board is authorized to establish Subcommittees or Working Groups, as necessary and consistent with its mission, and these Subcommittees or Working Groups shall operate under the provisions of the Federal Advisory Committee Act, the Government in the Sunshine Act of 1976, and other appropriate federal regulations.

Such Subcommittees or Working Groups shall not work independently of the chartered Board, and shall report their recommendations and advice to the Board for full deliberation and discussion. Subcommittees or Working Groups have no authority to make decisions on behalf of the chartered Board nor can they report directly to the Agency or any Federal officers or employees who are not Board Members.

FOR FURTHER INFORMATION CONTACT: Contact Jim Freeman, Deputy Committee Management Officer for the Department of Defense, 703-601-6128.

SUPPLEMENTARY INFORMATION: The Board shall meet at the call of the Board's Designated Federal Officer, in consultation with the Board's Chairperson. The Designated Federal Officer, pursuant to DoD policy, shall be a full-time or permanent part-time DoD employee, and shall be appointed in accordance with established DoD policies and procedures. The Designated Federal Officer or duly appointed Alternate Designated Federal Officer shall attend all committee meetings and subcommittee meetings.

Pursuant to 41 CFR 102-3.105(j) and 102-3.140, the public or interested organizations may submit written statements to the Department of Defense Medicare-Eligible Retiree Health Care Board of Actuaries membership about the Board's mission and functions. Written statements may be submitted at any time or in response to the stated agenda of planned meeting of the Department of Defense Medicare-Eligible Retiree Health Care Board of Actuaries.

All written statements shall be submitted to the Designated Federal Officer for the Department of Defense Medicare-Eligible Retiree Health Care Board of Actuaries, and this individual will ensure that the written statements are provided to the membership for their consideration. Contact information for the Department of Defense Medicare-Eligible Retiree Health Care Board of Actuaries' Designated Federal Officer can be obtained from the GSA's FACA Database— https://www.fido.gov/facadatabase/public.asp.

The Designated Federal Officer, pursuant to 41 CFR 102-3.150, will announce planned meetings of the Department of Defense Medicare-Eligible Retiree Health Care Board of Actuaries. The Designated Federal Officer, at that time, may provide additional guidance on the submission of written statements that are in response to the stated agenda for the planned meeting in question.

Dated: December 19, 2008.
Patricia L. Toppings,
OSD Federal Register Liaison Officer, Department of Defense.

[FR Doc. E8-30795 Filed 12-24-08; 8:45 am]

BILLING CODE 5001-06-P